DEPARTMENT OF COMMERCE

Submission for OMB Review; Comment Request

The Department of Commerce will submit to the Office of Management and Budget (OMB) for clearance the following proposal for collection of information under the provisions of the Paperwork Reduction Act (44 U.S.C. Chapter 35).

Agency: International Trade Administration.

Title: Proposed Information Collection; Comment Request; EU-U.S. Privacy Shield; Invitation for Applications for Inclusion on the List of Arbitrators.

OMB Control Number: 0625-0277.

Form Number(s): None.

Type of Request: Regular submission (extension of a currently approved information collection).

Number of Respondents: 60.

Average Hours per Response: 240 minutes.

Burden Hours: 240 hours.

Needs and Uses: Under the Privacy Shield, the U.S. Department of Commerce (DOC) and the European Commission have committed to implement an arbitration mechanism to provide European individuals with the ability to invoke binding arbitration to determine, for residual claims, whether an organization has violated its obligations under the Privacy Shield. The DOC and the European Commission will work together to implement the arbitration mechanism. Consistent with applicable law, DOC and the European Commission will develop a list of at least 20 arbitrators, chosen on the basis of independence, integrity, and expertise. Parties to a binding arbitration under this Privacy Shield mechanism may only select arbitrators from this list. The arbitral mechanism is a critical component of the EU-U.S. Privacy Shield Framework and must be implemented as soon as possible to preserve the integrity of the Privacy Shield program. More than 2,500 U.S.-based organizations currently rely on the Privacy Shield to transfer the personal data from Europe to the United States necessary to do business across the Atlantic. Such a data transfer mechanism is critically important, because it underpins almost $300 billion in digitally deliverable services traded across the Atlantic each year.

Affected Public: Private individuals.

Frequency: Recurrent, depending on the number of arbitrators required to retain an active list of 20 arbitrators.

Respondent's Obligation: Required to obtain or retain benefits.

This information collection request may be viewed at reginfo.gov. Follow the instructions to view Department of Commerce collections currently under review by OMB.

Written comments and recommendations for the proposed information collection should be sent within 30 days of publication of this notice to OIRA_Submission@omb.eop.gov or fax to (202) 395-5806.

Sheleen Dumas,
Departmental PRA Lead, Office of the Chief Information Officer.

[FR Doc. 2017-26081 Filed 12-1-17; 8:45 am]

BILLING CODE 3510-DS-P